DEPARTMENT OF DEFENSE

Department of the Navy

Notice of Intent To Grant Exclusive Patent License; Tessarae Inc.

AGENCY: Department of the Navy, DoD.

ACTION: Notice.

SUMMARY: The Department of the Navy hereby gives notice of its intent to grant to Tessarae Inc., a revocable, non-assignable, exclusive license to practice in the field of use defined as design process, systems and applications utilizing high-density resequencing microarrays (greater than 100,000 features per array and less than 500 square micron feature size), and manufacturable under good practice standards in batch quantities greater than 1,000 arrays (such as CustomSeq resequencing microarrays fabricated by Affymetrix, Inc.), for screening, diagnosis where approved by the appropriate local government health authority, and/or surveillance of pathogen induced disease in the U.S. and certain foreign countries, the Government-owned inventions described in Navy Case No. 96,744: COMPUTER-IMPLEMENTED BIOLOGICAL SEQUENCE IDENTIFIER SYSTEM AND METHOD.//Navy Case No. 97,439: BROAD-SPECTRUM PATHOGEN DIAGNOSTIC AND SURVEILLANCE SYSTEM.//Navy Case No. 97,747: AUTOMATED SAMPLE-TO-MICROARRAY SYSTEM.//Navy Case No. 97,748: OPTIMIZED PATHOGEN RESEQUENCING DIAGNOSTIC AND SURVEILLANCE SYSTEM.//Navy Case No. 98,057: RAPID DETECTION FOR OVER 20 RESPIRATORY PATHOGENS SIMULTANEOUSLY IN CLINICAL SAMPLES USING RESEQUENCING ARRAYS AND ANY CONTINUATIONS, DIVISIONALS OR RE-ISSUES THEREOF.

DATES: Anyone wishing to object to the grant of this license must file written objections along with supporting evidence, if any, not later than September 8, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please fax 202-404-7920, e-mail techtran@utopia.nrl.navy.mil, or use courier delivery to expedite response.

(Authority: 35 U.S.C. 207, 37 CFR part 404.)

Dated: August 18, 2006.
M.A. Harvison,
Lieutenant Commander, Judge Advocate General's Corps, U.S. Navy, Federal Register Liaison Officer.

[FR Doc. E6-14026 Filed 8-23-06; 8:45 am]

BILLING CODE 3810-FF-P